DEPARTMENT OF THE INTERIOR

Bureau of Indian Affairs

25 CFR Part 20

RIN 1076-AD95

Financial Assistance and Social Services Programs; Correction

AGENCY: Bureau of Indian Affairs, Interior.

ACTION: Final rule; correction.

SUMMARY: This document contains corrections to the final regulations which were published Friday, October 20, 2000 (65 FR 63144). The regulations amended the existing regulations to incorporate new service delivery systems within the Financial Assistance and Social Service program.

EFFECTIVE DATE: December 7, 2000.

FOR FURTHER INFORMATION CONTACT: Larry Blair, (202) 208-2479.

SUPPLEMENTARY INFORMATION:

Background

The final regulations that are the subject of these corrections supersede regulations, 25 CFR part 20, last published in 1985. These regulations conform to changes in public assistance payments procedures as well as expand service delivery systems to conform to existing conditions.

Need for Correction

As published, the final regulations contain errors which may prove to be misleading and are in need of clarification.

Correction of Publication

Accordingly, the publication on October 20, 2000, of the final regulations which were the subject of FR Doc. 00-26703, is corrected as follows:

§ 20.100 [Corrected]

1. On page 63160, in the second column, in § 20.100, in the second definition the term “adult assistance care” is corrected to read “adult care assistance”.

§ 20.206 [Corrected]

2. On page 63163, in the first column, in § 20.206, the second sentence of the introductory text is corrected by removing the word “or.”

§ 20.334 [Corrected]

3. On page 63166, in the third column, in § 20.334(b), the first sentence is corrected by removing the words “social services worker” and adding the words “Bureau Line Officer.”

§ 20.335 [Corrected]

4. On page 63166, in the third column, § 220.335 is correctly designated as § 20.335.

§ 20.403 [Corrected]

5. On page 63167, in the second column, in § 20.403, paragraph (a)(4)(ii), is corrected by removing the reference to “(d)(1)” and adding in its place the reference “(b)(1).”

§ 20.603 [Corrected]

6. On page 63170, in the second column, in § 20.603(a), the first sentence is corrected to add after the word “requested” the words “and all recipients will be redetermined for eligibility every 6 months.”

7. On page 63170, in the second column, in § 20.603(c), the first sentence is corrected by removing the word “Superintendent” and adding the words “social services worker” in its place.

8. On page 63170, in the second column, in § 20.603(d) introductory text, correct the word “Superintendent” to read “social services worker.”

9. On page 63170, in the second column, in § 20.603(d)(2), correct the word “Superintendent” to read “social services worker.”

§ 20.701 [Corrected]

10. On page 63171, in the first column, in § 20.701, the section heading is corrected by removing the words, “an applicant or” and adding the word “a” in its place.

Dated: November 30, 2000.
Kevin Gover,
Assistant Secretary—Indian Affairs.

[FR Doc. 00-31093 Filed 12-6-00; 8:45 am]

BILLING CODE 4310-02-P